FEDERAL COMMUNICATIONS COMMISSION

47 CFR Part 73

[DA 01-2753, MM Docket No. 01-325, RM-10136]

Television Broadcast Service; Green Bay, WI

AGENCY: Federal Communications Commission.

ACTION: Proposed rule.

SUMMARY: The Commission requests comments on a petition filed by Green Bay 44, L.L.C., an applicant for a construction permit for a new television station operating on channel 44 at Green Bay, Wisconsin, requesting the substitution of Channel 50 for channel 44 at Green Bay. TV channel 50 can be allotted to Green Bay, Wisconsin, with a plus offset consistent with the criteria set forth in the Commission's Public Notice, released on November 22, 1999, DA 99-2605. The coordinates for channel 50+ at Green Bay are North Latitude 44-30-48 and West Longitude 88-00-24. However, since the community Green Bay is located within 400 kilometers of the U.S.-Canadian border, concurrence by the Canadian government must be obtained for this proposal. Pursuant to the provisions outlined in the Commission's Public Notice, we will not accept competing expressions of interest in the use of television channel 50+ at Green Bay.

DATES: Comments must be filed on or before January 21, 2002, and reply comments on or before February 5, 2002.

ADDRESSES: Federal Communications Commission, 445 12th Street, SW., Room TW-A325, Washington, DC 20554. In addition to filing comments with the FCC, interested parties should serve the petitioner, or its counsel or consultant, as follows: Andrew S. Kersting, Fletcher, Heald & Hildreth, 11th Floor, 1300 North 17th Street, Arlington, Virginia 22209-3801 (Counsel for Green Bay 44, L.L.C.).

FOR FURTHER INFORMATION CONTACT: Pam Blumenthal, Mass Media Bureau, (202) 418-1600.

SUPPLEMENTARY INFORMATION: This is a synopsis of the Commission's Notice of Proposed Rule Making, MM Docket No. 01-325, adopted November 29, 2001, and released November 30, 2001. The full text of this document is available for public inspection and copying during regular business hours in the FCC Reference Information Center, Portals II, 445 12th Street, SW., Room CY-A257, Washington, DC, 20554. This document may also be purchased from the Commission's duplicating contractor, Qualex International, Portals II, 445 12th Street, SW, Room CY-B402, Washington, DC, 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.606(b), the Table of Television Allotments under Wisconsin is amended by removing TV Channel 44 and adding TV Channel 50+ at Green Bay.

Federal Communications Commission.
Barbara A. Kreisman,
Chief, Video Services Division, Mass Media Bureau.

[FR Doc. 01-30036 Filed 12-4-01; 8:45 am]

BILLING CODE 6712-01-P